NUCLEAR REGULATORY COMMISSION

[Docket Nos. (as shown in Attachment 1); License Nos. (as shown in Attachment 1); EA-06-137]

In the Matter of Operating Power Reactor Licensees Identified In Attachment 1; Order Modifying Licenses (Effective Immediately)

The licensees identified in Attachment 1 to this Order hold licenses issued by the U.S. Nuclear Regulatory Commission (NRC or the Commission) authorizing operation of nuclear power plants in accordance with the Atomic Energy Act of 1954 and Title 10 of the Code of Federal Regulations (10 CFR) part 50.

On September 11, 2001, terrorists simultaneously attacked targets in New York, NY, and Washington, DC, using large commercial aircraft as weapons. In response to the attacks and intelligence information subsequently obtained, the Commission issued a number of Safeguards and Threat Advisories to its licensees, and eventually Orders to selected licensees, to strengthen licensees' capabilities and readiness to respond to a potential attack on a nuclear facility. On February 25, 2002, the Commission issued an Order to all operating power reactor licensees that required certain compensatory measures be implemented (February 25th Order).

On December 2, 2005, the Commission issued a Demand for Information (DFI) to the power reactor licensees. The DFI required responses regarding whether certain identified key mitigative strategies, related to Section B.5.b. of the February 25th Order, for loss of large areas of the plant due to large fires or explosions were applicable to their facilities. The DFI also required certain related information, including whether the licensees acknowledged that the identified key strategies were required by Section B.5.b. of the February 25th Order. All licensees responded to the DFI with the required information but all responses stated that the strategies were not required by Section B.5.b.

As a result of the Commission's continued assessment of Section B.5.b mitigation strategies for loss of large areas of the plant due to large fires or explosions, the Commission has determined that it is necessary at this time to require implementation of certain key radiological protection mitigation strategies. The key radiological protection mitigation strategies are set forth in Attachment 2 ¹ of this Order. Each licensee must amend its site security plan, safeguards contingency plan, guard training and qualification plan, and emergency plan as appropriate to address the key radiological protection mitigation strategies identified for its facilities. The Commission's assessment of the other mitigating strategies required by Section B.5.b. of the February 25th Order is continuing.

¹ Attachment 2 contains SAFEGUARDS INFORMATION and will not be publicly disclosed.

Any needed changes to the physical security plan, safeguards contingency plan, guard training and qualification plan, and emergency plan required by 10 CFR 50.34(c), 50.34(d), 73.55(b)(4)(ii), and 50.47(b) respectively, shall be completed and implemented within 120 days of the date of this Order.

Pursuant to 10 CFR 2.202, I find that in the circumstances described above, the public health, safety, and interest and the common defense and security require that this Order be immediately effective.

Accordingly, pursuant to sections 103, 104, 161b, 161i, 161o, 182, and 186 of the Atomic Energy Act of 1954, as amended, and the Commission's regulations in 10 CFR 2.202 and 10 CFR parts 50 and 73, it is hereby ordered, effective immediately, that all licenses identified in attachment 1 to this order are modified as follows:

A.1. Each licensee shall revise its physical security plan, safeguards contingency plan, guard training and qualification plan, and emergency plan prepared pursuant to 10 CFR 50.34(c), 50.34(d), 73.55(b)(4)(ii), and 50.47(b), as appropriate, to incorporate the key radiological protection mitigation strategies set forth in Attachment 2 to this Order. In addition, each licensee shall ensure that site procedures, and initial and recurring operations staff training programs, are updated to include the key radiological protection mitigation strategies set forth in Attachment 2 to this Order.

2. Each licensee shall implement any necessary changes to its physical security plan, safeguards contingency plan, guard training and qualification plan, emergency plan, and site procedures and training programs no later than 120 days from the date of this Order.

B.1. Each licensee shall, within 35 days of the date of this Order, notify the Commission, (1) if the licensee is unable to comply with any requirements of this Order, (2) if compliance with any requirement of this Order is unnecessary in the licensee's specific circumstances, or (3) if implementation of any requirement of this Order would cause the licensee to be in violation of the provisions of any Commission regulation or the facility license. The notification shall provide the licensee's justification for seeking relief from, or variation of, any specific requirement.

2. Any licensee that considers that implementation of any of the requirements of this Order would adversely impact safe operation of the facility must notify the Commission, within 35 days of this Order, of the adverse safety impact, the basis for its determination that the requirement has an adverse safety impact, and either a proposal for achieving the same objectives of this Order, or a schedule for modifying the facilities to address the adverse safety condition. If neither approach is appropriate, the licensee must supplement its response to Condition B.1. of this Order to identify the condition as a requirement with which it cannot comply, with attendant justifications as required in Condition B.1.

C. Each licensee shall report to the Commission, in writing, when it has fully implemented this Order. The notification shall be made no later than 120 days from the date of the Order and include substitute security plan, safeguards contingency plan, guard training and qualification plan, and emergency plan pages that reflect any changes made to implement the Order.

D. All measures implemented or actions taken in response to this Order shall be maintained until the Commission determines otherwise, except that the licensee may change its physical security plans, safeguards contingency plans, and guard training and qualification plans if authorized by 10 CFR 50.54(p) and may change its revised emergency preparedness plan if authorized by 10 CFR 50.54(q).

Licensee responses to Conditions A.1., B.1., B.2., and C. above, shall be submitted in accordance with 10 CFR 50.4. In addition, licensee submittals that contain safeguards information shall be properly marked and handled in accordance with 10 CFR 73.21.

The Director, Office of Nuclear Reactor Regulation, may, in writing, relax or rescind any of the above conditions upon demonstration by the licensee of good cause.

In accordance with 10 CFR 2.202, the licensee must, and any other person adversely affected by this Order may, submit an answer to this Order, and may request a hearing on this Order, within 35 days of the date of this Order. Where good cause is shown, consideration will be given to extending the time to request a hearing. A request for an extension of time in which to submit an answer or request a hearing must be made in writing to the Director, Office of Nuclear Reactor Regulation, U.S. Nuclear Regulatory Commission, Washington, DC 20555-0001, and include a statement of good cause for the extension. The answer may consent to this Order. Unless the answer consents to this Order, the answer shall, in writing and under oath or affirmation, specifically set forth the matters of fact and law on which the licensee or other person adversely affected relies and the reasons as to why the Order should not have been issued. Any answer or request for a hearing shall be submitted to the Secretary, Office of the Secretary of the Commission, U.S. Nuclear Regulatory Commission, ATTN: Rulemakings and Adjudications Staff, Washington, DC 20555-0001. Copies also shall be sent to the Director, Office of Nuclear Reactor Regulation, U.S. Nuclear Regulatory Commission, Washington, DC 20555-0001; the Assistant General Counsel for Materials Litigation and Enforcement at the same address; the Regional Administrator for NRC Region I, II, III, or IV, as appropriate for the specific facility; and the licensee if the answer or hearing request is by a person other than the licensee. Because of possible delays in delivery of mail to United States Government offices, it is requested that answers and requests for hearing be transmitted to the Secretary of the Commission either by means of facsimile transmission to 301-415-1101 or by e-mail to hearingdocket@nrc.gov and also to the Office of the General Counsel either by means of facsimile transmission to 301-415-3725 or by e-mail to OGCMailCenter@nrc.gov. If a person other than the licensee requests a hearing, that person shall set forth with particularity the manner in which his or her interest is adversely affected by this Order and shall address the criteria set forth in 10 CFR 2.309.

If a hearing is requested by the licensee or a person whose interest is adversely affected, the Commission will issue an Order designating the time and place of any hearing. If a hearing is held, the issue to be considered at such hearing shall be whether this Order should be sustained.

Pursuant to 10 CFR 2.202(c)(2)(i), the licensee may, in addition to demanding a hearing, at the time the answer is filed or sooner, move the presiding officer to set aside the immediate effectiveness of the Order on the ground that the Order, including the need for immediate effectiveness, is not based on adequate evidence but on mere suspicion, unfounded allegations, or error.

In the absence of any request for hearing, or written approval of an extension of time in which to request a hearing, the provisions specified in Section III above shall be final 35 days from the date of this Order without further order or proceedings. If an extension of time for requesting a hearing has been approved, the provisions specified in Section III shall be final when the extension expires if a hearing request has not been received. An answer or a request for hearing shall not stay the immediate effectiveness of this Order.

For the Nuclear Regulatory Commission.
Dated this 20th day of June 2006.
J.E. Dyer,
Director, Office of Nuclear Reactor Regulation.

Attachment 1—List of Licensees (EA-06-137)

Mr. William Levis

Senior Vice President and Chief Nuclear Officer

PSEG Nuclear LLC—N09

Hope Creek Generating Station, Unit 1

Docket No. 50-354

License No. NPF-57

End of Buttonwood Road

Hancocks Bridge, NJ 08038

Mr. Michael Kansler

President

Entergy Nuclear Operations, Inc.

Vermont Yankee Nuclear Power Station

Docket No. 50-271

License No. DPR-28

440 Hamilton Avenue

White Plains, NY 10601

Mr. Michael Kansler

President

Entergy Nuclear Operations, Inc.

James A. FitzPatrick Nuclear Power Plant

Docket No. 50-333,

License No. DPR-59

440 Hamilton Avenue

White Plains, NY 10601

Mr. Michael Kansler

President

Entergy Nuclear Operations, Inc.

Pilgrim Nuclear Power Station, Unit 1

Docket No. 50-293

License No. DPR-35

440 Hamilton Avenue

White Plains, NY 10601

Mr. Timothy J. O'Connor

Vice President

Nine Mile Point Nuclear Station, LLC

Nine Mile Point Nuclear Station, Units 1 and 2

Docket Nos. 50-220 & 50-410

License Nos. DPR-63 & NPF-69

348 Lake Road

Oswego, NY 13126

Mr. Britt T. McKinney

Senior Vice President and Chief Nuclear Officer

PPL Susquehanna, LLC

Susquehanna Steam Electric Station, Units 1 and 2

Docket Nos. 50-387 & 50-388

License Nos. NPF-14 & NPF-22

769 Salem Boulevard, NUCSB3

Berwick, PA 18603-0467

Mr. L. M. Stinson

Vice President—Nuclear, Hatch Project

Southern Nuclear Operating Company, Inc.

Edwin I. Hatch Nuclear Plant, Units 1 and 2

Docket Nos. 50-321 & 50-366

License Nos. DPR-57 & NPF-5

40 Inverness Center Parkway

Birmingham, AL 35242

Mr. James Scarola

Vice President

Carolina Power & Light Company

Progress Energy, Inc.

Brunswick Steam Electric Plant, Units 1 and 2

Docket Nos. 50-325 & 50-324

License Nos. DPR-71 & DPR-62

Hwy 87, 2.5 Miles North

Southport, NC 28461

Mr. Brian J. O'Grady

Site Vice President

Browns Ferry Nuclear Plant, Units 1, 2 and 3

Tennessee Valley Authority

Docket Nos. 50-259, 50-260, & 50-296

License Nos. DPR-33, DPR-52, & DPR-68

10835 Shaw Rd.

Athens, AL 35611

Mr. Michael Skaggs

Site Vice President

Watts Bar Nuclear Plant, Unit 1

Tennessee Valley Authority

Docket No. 50-390

License No. NPF-90

Highway 68 Near Spring City

Spring City, TN 37381

Mr. Randy Douet

Site Vice President

Sequoyah Nuclear Plant, Units 1 and 2

Tennessee Valley Authority

Docket Nos. 50-327 and 50-328

License Nos. DPR-77 and DPR-79

2000 Igou Ferry Road

Soddy Daisy, TN 37379

Mr. Mano K. Nazar

Senior Vice President and Chief Nuclear Officer

Indiana Michigan Power Company

Nuclear Generation Group

Donald C. Cook Nuclear Plant, Units 1 and 2

Docket Nos. 50-315 & 50-316

License Nos. DPR-58 & DPR-74

One Cook Place

Bridgman, MI 49106

Mr. Gary Van Middlesworth

Vice President

Duane Arnold Energy Center

Docket No. 50-331

License No. DPR-49

3277 DAEC Road

Palo, IA 52324-9785

Mr. Donald K. Cobb

Assistant Vice President—Nuclear Generation

Detroit Edison Company

Fermi, Unit 2

Docket No. 50-341

License No. NPF-43

6400 North Dixie Highway

Newport, MI 48166

Mr. John Conway

Site Vice President

Nuclear Management Company, LLC

Monticello Nuclear Generating Plant

Docket No. 50-263

License No. DPR-22

2807 West County Road 75

Monticello, MN 55362-9637

Mr. Randall K. Edington

Vice President—Nuclear and CNO

Nebraska Public Power District

Cooper Nuclear Station

Docket No. 50-298

License No. DPR-46

1200 Prospect Road

Brownville, NE 68321

Mr. J.V. Parrish

Chief Executive Officer

Energy Northwest

Columbia Generating Station

Docket No. 50-397

License No. NPF-21

Snake River Warehouse

North Power Plant Loop

Richland, WA 99352

Mr. Christopher M. Crane

President and Chief Nuclear Officer

AmerGen Energy Company, LLC

Oyster Creek Nuclear Generating Station

Docket No. 50-219

License No. DPR-16

4300 Winfield Road

Warrenville, IL 60555

Mr. Christopher M. Crane

President and Chief Nuclear Officer

Exelon Generation Company, LLC

Dresden Nuclear Power Station, Units 2 and 3

Docket Nos. 50-237 & 50-249

License Nos. DPR-19 &, DPR-25

4300 Winfield Road

Warrenville, IL 60555

Mr. Christopher M. Crane

President and Chief Nuclear Officer

Exelon Generation Company, LLC

LaSalle County Station, Units 1 and 2

Docket Nos. 50-373 & 50-374

License Nos. NPF-11 & NPF-18

4300 Winfield Road

Warrenville, IL 60555

Mr. Christopher M. Crane

President and Chief Nuclear Officer

Exelon Generation Company, LLC

Quad Cities Nuclear Power Station, Units 1 and 2

Docket Nos. 50-254 & 50-265

License Nos. DPR-29 & DPR-30

4300 Winfield Road

Warrenville, IL 60555

Mr. Christopher M. Crane

President and Chief Nuclear Officer

Exelon Generation Company, LLC

Limerick Generating Station, Units 1 and 2

Docket Nos. 50-352 & 50-353

License Nos. NPF-39 & NPF-85

4300 Winfield Road

Warrenville, IL 60555

Mr. Christopher M. Crane

President and Chief Nuclear Officer

Exelon Generation Company, LLC

Peach Bottom Atomic Power Station, Units 2 and 3

Docket Nos. 50-277 & 50-278

License Nos. DPR-44 & DPR-56

4300 Winfield Road

Warrenville, IL 60555

[FR Doc. E6-10076 Filed 6-26-06; 8:45 am]

BILLING CODE 7590-01-P